FEDERAL COMMUNICATIONS COMMISSION

47 CFR Part 73

[FCC 04-107; MM Docket No. 99-240; RM-9503]

Radio Broadcasting Services; Albemarle and Indian Trail, NC

AGENCY: Federal Communications Commission.

ACTION: Final rule; application for review.

SUMMARY: This Memorandum Opinion and Order affirms action in a Report and Order 66 FR 39119 (July 27, 2001), that reallotted FM broadcast Channel 265A from Albemarle, North Carolina, to Indian Trail, North Carolina, thus providing Indian Trail with its first local aural transmission service. Susquehanna Radio Corp., the licensee of Station WABZ(FM), Channel 265A, Albemarle, North Carolina, had requested this reallotment. The Report and Order modified Station WABZ's license to specify operation on Channel 265A at Indian Trail. This document denies an application for review of that Report and Order, filed by Monroe Broadcasting Company, Inc., licensee of Station WIXE(AM), Monroe, North Carolina.

DATES: Effective June 9, 2004.

FOR FURTHER INFORMATION CONTACT: R. Barthen Gorman, Media Bureau, (202) 418-2180.

SUPPLEMENTARY INFORMATION: This is a synopsis of the Commission's Memorandum Opinion and Order in MM Docket No. 99-240, adopted April 28, 2004 and released May 20, 2004. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC 20554, telephone 202-863-2893, facsimile 202-863-2898, or via e-mail qualexint@aol.com. This document is not subject to the Congressional Review Act.

Federal Communications Commission.
Marlene H. Dortch,
Secretary.

[FR Doc. 04-13037 Filed 6-8-04; 8:45 am]

BILLING CODE 6712-01-P